DEPARTMENT OF THE INTERIOR

Fish and Wildlife Service

[FWS-R4-R-2008-N0299; 40136-1265-0000-S3]

Tensas River National Wildlife Refuge, Franklin, Madison, and Tensas Parishes, LA

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Tensas River National Wildlife Refuge (NWR) for public review and comment. In this Draft CCP/EA, we describe the alternative we propose to use to manage this refuge for the 15 years following approval of the Final CCP.

DATES: To ensure consideration, we must receive your written comments by March 6, 2009. A meeting will be held to present the Draft CCP/EA to the public. Mailings, newspaper articles, and posters will be the avenues to inform the public of the date and time for the meeting.

ADDRESSES: Requests for copies of the Draft CCP/EA should be addressed to: Tina Chouinard, Refuge Planner, Fish and Wildlife Service, 6772 Highway 76 South, Stanton, TN 38069. The Draft CCP/EA may be accessed and downloaded from the Service's Internet site: http://southeast.fws.gov/planning.

FOR FURTHER INFORMATION CONTACT: Tina Chouinard; Telephone: 731/780-8208; E-mail: tina_chouinard@fws.gov.

SUPPLEMENTARY INFORMATION:

Introduction

With this notice, we continue the CCP process for Tensas River NWR. We started the process through a notice in the Federal Register on September 08, 2006 (71 FR 53131).

Tensas River NWR consists of 74,622 acres in fee title and 195 acres in easement. It is located in the Tensas Basin in northeast Louisiana, approximately 60 miles southeast of Monroe, Louisiana, and 25 miles southwest of Vicksburg, Mississippi. The refuge area encompasses portions of Madison, Tensas, and Franklin Parishes. The office/visitor center and maintenance facilities on the refuge are located approximately 12 miles southwest of Tallulah, Louisiana.

In an effort to conserve the largest privately owned tract of bottomland hardwoods remaining in the Mississippi Delta, Congress authorized the Secretary of the Interior to establish the Tensas River NWR by Public Law 96-285 on June 28, 1980. Tensas River NWR was established for various purposes, including:

• “For the preservation and development of the environmental resources * * * to conserve the diversity of fish and wildlife and their habitat * * * for the conservation and development of wildlife and natural resources, the development of outdoor recreation opportunities, and interpretative education,” and “to give special consideration to management of the timber on the refuge to ensure continued commercial production and harvest compatible with the purposes for which the refuge is established and the needs of fish and wildlife which depend upon the dynamic and diversified hardwood forest” (94 Stat. 595, dated June 28, 1980);

• “For the development, advancement, management, conservation, and protection of fish and wildlife resources” [16 U.S.C. 742f(a)(4)] “for the benefit of the United States Fish and Wildlife Service, in performing its activities and services. Such acceptance may be subject to the terms of any restrictive or affirmative covenant, or condition of servitude” [16 U.S.C. 742f(b)(1) (Fish and Wildlife Act of 1956)];

• “For conservation purposes” [7 U.S.C. 2002 (Consolidated Farm and Rural Development Act)];

• “To conserve (A) fish or wildlife which are listed as endangered species or threatened species* * *or (B) plants” [16 U.S.C. 1534 (Endangered Species Act of 1973)].

Tensas River NWR currently provides a mix of various habitat types, including bottomland hardwood forests, hardwood reforestation areas, open field moist-soil areas, and open field-cropland. There are approximately 11,000 acres of forest less than 30 years old; 6,000 acres of 30- to 60-year old timber, and 53,000 acres of 60-plus year old timber. Eighty percent (56,000 acres) of the refuge is composed of sweetgum/willow oak/Nuttall oak forest type; 20 percent is sugarberry/American elm/green ash (12,600 acres); and a small percentage is overcup oak/bitter pecan and cypress brake timber types. The majority of the refuge is in a closed-canopy condition.

Because Tensas River NWR is part of the Lower Mississippi River Ecosystem, the refuge is a component of many regional and ecosystem conservation planning initiatives. The Mississippi Alluvial Valley (MAV) is a critical ecoregion for migratory birds in North America. Tensas River NWR provides important foraging and resting habitats within the MAV for waterfowl, as well as a variety of other migratory birds such as woodcock, marshbirds, neotropical migratory birds, colonial waterbirds, and wading birds. This area specifically contributes important regional resources to an international habitat management effort known as the North American Waterfowl Management Plan, which seeks to return waterfowl species populations to levels observed during the 1970s.

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

Significant issues addressed in this Draft CCP/EA include: (1) Threatened Louisiana black bear, (2) general refuge and visitor center access, (3) clear integration of refuge management with regional watershed/ecosystem plans, (4) habitat restoration and management, (5) bottomland hardwood forest restoration and management, and (6) how to improve opportunities for environmental education/interpretation. The Service developed three alternatives for management of the refuge (Alternatives A, B, and C), with Alternative C as the Service's proposed alternative.

CCP Alternatives, Including Our Proposed Alternative

We developed three alternatives for managing the refuge and chose “Alternative C” as the proposed alternative. A full description of each alternative is in the Draft CCP/EA. We summarize each alternative below.

Alternative A—No Action Alternative

Current management and public use would continue under this alternative. Refuge management programs would continue to be developed and implemented with limited baseline biological information and with limited monitoring. Wildlife surveys would still be completed for presence and absence of species and to alert refuge staff to large-scale changes in population trends. Cooperation with partners for monitoring waterfowl, eagle, fish, and deer herd health surveys would continue. The refuge would continue to provide habitat for and monitor the progress on the repatriation of the Louisiana black bear. It would also maintain the current habitat mix for the benefit of other migratory birds, shorebirds, marshbirds, and landbirds. Staff would continue existing surveys to monitor long-term population trends and health of resident species.

Bottomland hardwood forest management would continue at the current rate of thinning to maintain a closed canopy forest and retain as much water tupelo and bald cypress as possible. The open fields would continue with manipulating water levels for the moist-soil and cooperative cropland management. Management for invasive species would continue with opportunistic treatment and mapping. Partnerships would continue with Louisiana Department of Wildlife and Fisheries for several biological programs, hunting regulations, and law enforcement issues. The refuge partners program would still develop projects with interested parties for carbon sequestration projects and for invasive species.

Hunting, fishing, and environmental education programs would continue to be the priority focus of public use on Tensas River NWR, with no expansion of current opportunities. Current restrictions or prohibitions would remain. Environmental education and wildlife observation and photography would be accommodated at present levels, with a few interpretive sites added. Staffing would remain at current level with no new positions added, but current vacancies would be advertised and filled.

Alternative B—Custodial Management Approach

This alternative is driven by reducing costs of funding and staffing, with reduced habitat and wildlife management and a reduced public use program. The biological information would be modified to develop management programs that could be implemented less frequently, yet still accomplish the objectives. Extensive baseline inventorying and monitoring programs would be conducted with several partners to provide a solid foundation of the current condition of refuge habitat and wildlife while monitoring for changes in trends.

Additional research projects would be implemented in this alternative, depending on granting opportunities and partnerships with other agencies and universities. An intensive bottomland hardwood forest inventory would be implemented to define current conditions and monitor natural successional changes. Management in the bottomlands would be limited so that the forest would go through natural succession as defined in a revised Forest Habitat Management Plan. Open fields would be allowed to go through natural succession to bottomland hardwood forests, and moist-soil units would not be maintained. Invasive species management would become a priority to establish baseline information on location and density and protocols for control. Partnerships would continue to be fostered for several biological programs, hunting regulations, law enforcement issues, and research projects.

Public use would be limited under this alternative, with custodial-level maintenance. Public use would be monitored more closely for impacts to wildlife, and if negative impacts occurred, new restrictions or closures would result. Deer hunting would be allowed when data demonstrated that the population had exceeded the habitat carrying capacity and a reduction in herd size was deemed necessary. An extensive survey for monitoring the deer population and its association with habitat conditions would be implemented. Fishing would continue as currently managed. Environmental education, wildlife observation, and wildlife photography would be accommodated at present levels; but access would be limited to July-October and February-April to minimize disturbance to migratory birds. Staffing would increase by four positions (e.g., biologist, forester, and two maintenance workers) to handle the increase in biological inventorying and monitoring, and to control invasive species.

Alternative C—“Ecosystem Management” (Proposed Action)

Biological potential of historical habitats is restored and enhanced, with most management actions emphasizing natural ecological processes to foster habitat functions and wildlife populations. The biological program would be enhanced with inventorying and monitoring, so that adaptive management could be implemented, primarily for migratory birds, but other species of wildlife could benefit as well. Through the use of grants and partnerships, migratory bird use and nesting success on the refuge would be evaluated. Partnerships would be developed to establish scientifically valid protocols and to collaboratively work on research projects that would provide information on how forest management is affecting wildlife.

Bottomland hardwood forest management would be developed based on an inventory defining current conditions. Bottomlands would have management increased to open the canopy cover and increase structural and vegetation diversity. Water control structures and pumping capability would be improved to enhance moist-soil and cropland management for the benefit of wintering waterfowl. Invasive species would be mapped and protocols for control established with the addition of a forester. Partnerships would continue to be fostered for several biological programs, hunting regulations, law enforcement issues, and research projects.

Under Alternative C, land acquisition, reforestation, and resource protection at Tensas River NWR would be intensified from the level now maintained in the “No Action” Alternative. In the refuge's Private Lands Program, staff would work with private landowners of adjacent tracts to manage and improve habitats. Staff would also explore opportunities with partners to protect existing and extend potential foraging areas off refuge lands. Alternative C would provide a full-time law enforcement officer, an equipment operator, a maintenance mechanic, and a wildlife technician. The refuge would develop and begin to implement a Cultural Resources Management Plan.

Within 3 years of implementing the CCP, refuge staff would develop a Visitor Services Plan for use in expanding public use facilities and opportunities on the refuge. This step-down management plan would provide overall, long-term direction and guidance in developing and running a larger public use program at Tensas River NWR. Alternative C would also increase opportunities for visitors by improving and/or adding facilities such as photo-blinds, observation sites, and trails.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: January 28, 2009.
Mike Piccirilli,
Acting Regional Director.

[FR Doc. E9-2304 Filed 2-3-09; 8:45 am]

BILLING CODE 4310-55-P